DEPARTMENT OF TRANSPORTATION

Surface Transportation Board

[STB Finance Docket No. 34992]

Itasca County Regional Rail Authority—Petition for Exemption—Construction of a Line of Railroad in Itasca County, MN

AGENCY: Surface Transportation Board.

ACTION: Issuance of a decision granting an exemption under 49 U.S.C. 10502 from the prior approval requirements of 49 U.S.C. 10901 to construct a 9-mile rail line in Itasca County, MN.

SUMMARY: By petition filed on March 9, 2007, the Itasca County Regional Rail Authority, a noncarrier, seeks an exemption under 49 U.S.C. 10502 from the prior approval requirements of 49 U.S.C. 10901 to construct a 9-mile rail line from a connection with an existing rail line at Taconite, MN, to the site of a new steel mill to be built by Minnesota Steel Industries LLC at Nashwauk, MN, all located in Itasca County. The Board's decision served in this proceeding on September 8, 2008, grants the requested exemption and authorizes the construction, subject to environmental mitigation measures recommended in the Post Environmental Assessment (Post EA).

FOR FURTHER INFORMATION CONTACT: Joseph H. Dettmar, (202) 245-0395. [Assistance for the hearing impaired is available through the Federal Information Relay Service (FIRS) at: 1-800-877-8339].

SUPPLEMENTARY INFORMATION: In a decision served on May 14, 2007, the Board instituted a proceeding under 49 U.S.C. 10502(b). The Board's Section of Environmental Analysis (SEA) conducted an environmental review of the proposed construction and alternatives to the proposal. An Environmental Assessment (EA), prepared by SEA, was issued for public review and comment on March 28, 2008. SEA then prepared a Post EA dated June 30, 2008. The Post EA considers all of the comments received on the EA, reflects SEA's further independent analysis, and sets forth SEA's final recommendations on alternatives and environmental mitigation.

After considering the entire record, including both the transportation aspects of the petition and the potential environmental issues, the Board is granting the requested exemption and authorizing the construction of the route designated as Alternative 2, subject to the environmental mitigation measures recommended in the Post EA, which are set forth in the Appendix to the Board's decision served on September 8, 2008.

For additional information regarding this decision, including additional background information, a discussion of the Board's rail transportation analysis and environmental analysis, and the mitigation measures imposed in this proceeding, see the Board's decision served September 8, 2008, in Itasca County Regional Rail Authority—Petition for Exemption—Construction of a line of Railroad in Itasca County, MN, STB Finance Docket No. 34992.

Board decisions, notices, and filings in this and other Board proceedings are available on the Board's Web site at http://www.stb.dot.gov.

Decided: September 5, 2008.
By the Board, Chairman Nottingham, Vice Chairman Mulvey, and Commissioner Buttrey.
Anne K. Quinlan,
Acting Secretary.

[FR Doc. E8-21081 Filed 9-10-08; 8:45 am]

BILLING CODE 4915-01-P